ENVIRONMENTAL PROTECTION AGENCY

[OPP-2002-0260; FRL-7278-4]

Caffeine; Receipt of Application for Emergency Exemption, Solicitation of Public Comment; Extension of Comment Period

AGENCY: Environmental Protection Agency (EPA).

ACTION: Notice; extension of comment period.

SUMMARY: On September 27, 2002, EPA published a notice soliciting public comments regarding the receipt of an application for a quarantine exemption from the United States Department of Agriculture Animal and Plant Health Inspection Service (USDA, APHIS) to use the pesticide caffeine (1H-purine-2,6-dione, 3,7-dihydro-1,3,7-trimethyl-) (CAS No. 58-08-2) to treat up to 200 acres of floriculture and nursery crops, parks, hotels and resort areas, and forest habitats to control Coqui and Greenhouse frogs. Comments were being requested because the Applicant proposes the use of a new chemical which has not been registered by EPA. EPA is extending the comment period for 8 days, from October 15, 2002, to October 23, 2002.

DATES: Comments, identified by docket ID number OPP-2002-0260 must be received on or before October 23, 2002.

ADDRESSES: Comments may be submitted electronically, by mail, or through hand delivery/courier. Follow the detailed instructions as provided in Unit I.C. of the SUPPLEMENTARY INFORMATION of the September 27, 2002 Federal Register document.

FOR FURTHER INFORMATION CONTACT: Barbara Madden, Registration Division (7505C), Office of Pesticide Programs, Environmental Protection Agency, 1200 Pennsylvania Ave., NW., Washington, DC 20460-0001; telephone number: (703) 305-6463; fax number: (703) 308-5433; e-mail address: Sec-18-Mailbox@epamail.epa.gov.

SUPPLEMENTARY INFORMATION:

I. General Information

A. Does this Action Apply to Me?

You may be potentially affected by this action if you are a federal or state government agency involved in administration of environmental quality programs. Potentially affected entities may include, but are not limited to:

Federal or state government entity, (NAICS 9241), e.g., Department of Agriculture, Environment.

This listing is not intended to be exhaustive, but rather provides a guide for readers regarding entities likely to be affected by this action. Other types of entities not listed in this unit could also be affected. The North American Industrial Classification System (NAICS) codes have been provided to assist you and others in determining whether this action might apply to certain entities. If you have any questions regarding the applicability of this action to a particular entity, consult the person listed under FOR FURTHER INFORMATION CONTACT.

B. How Can I Get Copies of This Document and Other Related Information?

1. Docket. EPA has established an official public docket for this action under docket identification (ID) number OPP-2002-0260. The official public docket consists of the documents specifically referenced in this action, any public comments received, and other information related to this action. Although a part of the official docket, the public docket does not include Confidential Business Information (CBI) or other information whose disclosure is restricted by statute. The official public docket is the collection of materials that is available for public viewing at the Public Information and Records Integrity Branch (PIRIB), Rm. 119, Crystal Mall #2, 1921 Jefferson Davis Hwy., Arlington, VA. This docket facility is open from 8:30 a.m. to 4 p.m., Monday through Friday, excluding legal holidays. The docket telephone number is (703) 305-5805.

2. Electronic access. You may access this Federal Register document electronically through the EPA Internet under the “Federal Register” listings at http://www.epa.gov/fedrgstr/.

An electronic version of the public docket is available through EPA's electronic public docket and comment system, EPA Dockets. You may use EPA Dockets at http://www.epa.gov/edocket/ to submit or view public comments, access the index listing of the contents of the official public docket, and to access those documents in the public docket that are available electronically. Once in the system, select “search,” then key in the appropriate docket ID number.

C. How and to Whom Do I Submit Comments?

To submit comments, or access the official public docket, please follow the detailed instructions as provided in Unit I.C. of the SUPPLEMENTARY INFORMATION of the September 27, 2002 Federal Register document. If you have questions, consult the person listed under FOR FURTHER INFORMATION CONTACT.

II. What Action is EPA taking?

This document extends the public comment period established in the Federal Register of September 27, 2002 (67 FR 61099) (FRL-7275-2). In that document, EPA sought comment on a quarantine exemption request from USDA, APHIS to use the pesticide caffeine (1H-purine-2,6-dione, 3,7-dihydro-1,3,7-trimethyl-) (CAS No. 58-08-2) to treat up to 200 acres of floriculture and nursery crops, parks, hotels and resort areas, and forest habitats to control Coqui and Greenhouse frogs. The Applicant proposes the use of a new chemical which has not been registered by EPA. EPA is hereby extending the comment period, which was set to end on October 15, 2002, to October 25, 2002.

III. What is the Agency's Authority for Taking this Action?

In accordance with 40 CFR 166 the Administrator shall issue a notice of receipt for a quarantine exemption request when the application proposes the use of a new chemical. Further provisions are made to give the public 15 days to comment. However, the Administrator may extend the comment period if additional time for comment is requested.

List of Subjects

Environmental protection, Pesticides and pests.

Dated: October 10, 2002.
Peter Caulkins,
Acting Director, Registration Division, Office of Pesticide Programs.

[FR Doc. 02-26438 Filed 10-11-02; 4:47 pm]

BILLING CODE 6560-50-S